FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 940. Interested parties may submit comments on an agreement to the Secretary, Federal Maritime Commission, Washington, DC 20573, within 10 days of the date this notice appears in the Federal Register.

Agreement No.: 011375-054.

Title: Trans-Atlantic Conference Agreement.

Parties: Atlantic Container Line, A.P. Moller-Maersk Sealand, Hapag-Lloyd Container Line GmbH, Mediterranean Shipping Company S.A., Nippon Yusen Kaisha, Orient Overseas Container Line Limited, P&O Nedlloyd Limited.

Synopsis: The proposed agreement amendment authorizes the parties to agree on the temporary withdrawal of one or more vessels commencing with sailings in the United States or Europe from mid-December to mid-February, and authorizes those parties withdrawing vessels to charter space from parties not withdrawing vessels in the trade.

Dated: October 27, 2000.
By Order of the Federal Maritime Commission.
Bryant L. VanBrakle,
Secretary.

[FR Doc. 00-28046 Filed 10-31-00; 8:45 am]

BILLING CODE 6730-01-P